DEPARTMENT OF HEALTH AND HUMAN SERVICES

Centers for Disease Control and Prevention

National Center for Health Statistics (NCHS), ICD-10 Coordination and Maintenance (C&M) Committee Meeting

AGENCY: Centers for Disease Control and Prevention (CDC), Department of Health and Human Services (HHS).

ACTION: Notice of virtual meeting.

SUMMARY: The CDC, National Center for Health Statistics (NCHS), Classifications and Public Health Data Standards Staff, announces the following meeting of the ICD-10 Coordination and Maintenance (C&M) Committee meeting. This meeting is open to the public, limited only by audio lines available. Online Registration is not required.

DATES: The meeting will be held on March 8, 2022, from 9:00 a.m. to 5:00 p.m., EST, and March 9, 2022, from 9:00 a.m. to 5:00 p.m., EST.

ADDRESSES: This is a virtual meeting. Information will be provided on each of our respective web pages when it becomes available. For CDC/NCHS https://www.cdc.gov/nchs/icd/icd10cm_maintenance.htm. For CMS https://www.cms.gov/Medicare/Coding/ICD9ProviderDiagnosticCodes/meetings.

FOR FURTHER INFORMATION CONTACT: Traci Ramirez, Medical Systems Specialist, CDC, 3311 Toledo Road, Hyattsville, Maryland 20782, Telephone: (301) 458-4454; Email: TRamirez@cdc.gov.

SUPPLEMENTARY INFORMATION: Purpose: The ICD-10 Coordination and Maintenance (C&M) Committee is a public forum for the presentation of proposed modifications to the International Classification of Diseases, Tenth Revision, Clinical Modification and ICD-10 Procedure Coding System.

Matters To Be Considered: The tentative agenda will include discussions on ICD-10-CM and ICD-10-PCS topics listed below. Agenda items are subject to change as priorities dictate. Please refer to the posted agenda for updates one month prior to the meeting.

ICD-10-PCS Topics

1. Administration of Spesolimab *

2. Administration of daratumumab and hyaluronidase-fihj *

3. Administration of Defencath *

4. Administration of Maribavir *

5. Administration of Teclistamab *

6. Administration of Mosunetuzumab *

7. Administration of afamitresgene autoleucel **

8. Administration of tabelecleucel **

9. Administration of Treosulfan *

10. Administration of inebilizumab-cdon *

11. Administration of Xenon-129 *

12. Administration of betibeglogene autotemcel **

13. Administration of Omidubicel **

14. Implantation of Sphenopalatine Ganglion Stimulator for Ischemic Stroke *

15. Gene Expression Assay **

16. Vertebral Body Tethering *

17. Percutaneous Femoral-Popliteal Artery Bypass *

18. Computer-Assisted Transcranial Magnetic Stimulation *

19. Computer-Aided Analysis for the Detection and Classification of Epileptic Events *

20. Facet Replacement Spinal Stabilization Device *

21. Insertion of Sacropelvic Fixation System *

22. Insertion of an Implantable Vagus Nerve Stimulation System *

23. Insertion of a Paired Vagus Nerve Stimulation System *

24. Percutaneous Venous Thrombectomy for Postthrombotic Syndrome *

25. Quantitative Flow Ratio for Non-invasive Intraprocedural Analysis of Cardiac Angiography

26. Application of Allogeneic Thymus Derived Tissue

27. Supersaturated Oxygen Therapy

28. Assistance with Precision Stimulation Software *

29. Section X Updates

30. Addenda and Key Updates

* Requestor has submitted a New Technology Add-on Payment (NTAP) application for FY 2023.

** Requestor intends to submit an NTAP application for FY 2024 consideration.

Presentations for procedure code requests are conducted by both the requestor and CMS during the Coordination & Maintenance Committee meeting. Discussion from the requestor generally focuses on the clinical issues for the procedure or technology, followed by the proposed coding options from a CMS analyst. Topics presented may also include requests for new procedure codes that relate to a new technology add-on payment (NTAP) policy request.

CMS is continuing to modify the approach for presenting the new technology add-on payment (NTAP) related ICD-10-PCS procedure code requests that involve the administration of a therapeutic agent for the March 8-9, 2022 ICD-10 Coordination and Maintenance Committee meeting. Consistent with the requirements of section 1886(d)(5)(K)(iii) of the Social Security Act, applicants submitted requests to create a unique procedure code to describe the administration of a therapeutic agent, such as the option to create a new code in Section X within the ICD-10-PCS procedure code classification. CMS will initially only display those meeting materials associated with the NTAP related ICD-10-PCS procedure code requests that involve the administration of a therapeutic agent on the CMS website in early February 2022 at: https://www.cms.gov/Medicare/Coding/ICD10/C-and-M-Meeting-Materials.

The 13 NTAP related ICD-10-PCS procedure code requests that involve the administration of a therapeutic agent are:

1. Administration of Spesolimab *

2. Administration of daratumumab and hyaluronidase-fihj *

3. Administration of Defencath *

4. Administration of Maribavir *

5. Administration of Teclistamab *

6. Administration of Mosunetuzumab *

7. Administration of afamitresgene autoleucel **

8. Administration of tabelecleucel **

9. Administration of Treosulfan *

10. Administration of inebilizumab-cdon *

11. Administration of Xenon-129 *

12. Administration of betibeglogene autotemcel **

13. Administration of Omidubicel **

These topics will not be presented during the March 8-9, 2022 meeting. CMS will solicit public comments regarding any clinical questions or coding options included for these 13 procedure code topics in advance of the meeting continuing through the end of the public comment period, April 8, 2022. Members of the public should send any questions or comments to the CMS mailbox at: ICDProcedure CodeRequest@cms.hhs.gov by the April 8, 2022 deadline.

CMS intends to post a question and answer document in advance of the meeting to address any clinical or coding questions that members of the public may have submitted. Following the conclusion of the meeting, CMS will post an updated question and answer document to address any additional clinical or coding questions that members of the public may have submitted during the meeting that CMS was not able to address or that were submitted after the meeting.

The NTAP related ICD-10-PCS procedure code requests that do not involve the administration of a therapeutic agent and all non-NTAP related procedure code requests will continue to be presented during the virtual meeting on March 8, 2022, consistent with the standard meeting process.

CMS will make all meeting materials and related documents available at: https://www.cms.gov/Medicare/Coding/ICD10/C-and-M-Meeting-Materials. Any inquiries related to the procedure code topics scheduled for the March 8-9, 2022 ICD-10 Coordination and Maintenance Committee meeting that are under consideration for October 1, 2022 implementation should be sent to the CMS mailbox at: ICDProcedure CodeRequest@cms.hhs.gov.

ICD-10-CM Topics

1. Coma

2. Craniosynostosis

3. Extraocular muscle entrapment

4. Foreign body sensation

5. Impairing Emotional Outbursts

6. Insulin resistant syndrome

7. Leukodystrophies

8. Observation and evaluation of newborn for other specified suspected condition ruled out

9. Problems related to upbringing

10. Addenda

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-01283 Filed 1-21-22; 8:45 am]

BILLING CODE 4163-18-P